Title 3—

The President

Proclamation 8434 of October 6, 2009

German-American Day, 2009

By the President of the United States of America

A Proclamation

Comprising the Nation's largest ancestry group, German Americans have contributed to our collective identity since the first settlements were founded in the 17th century. Essential to the growth of America, these farmers, soldiers, entrepreneurs, and patriots gave their strength, determination, and in some circumstances, their lives, so we all may experience a brighter tomorrow. It is in this spirit that German Americans continue to enrich our national character, sharing their proud heritage with new generations from every background. Today, we celebrate German Americans for their remarkable role in our Nation's development.

Our citizens of German descent excel in every discipline and open our minds to the expanses of human possibility. When we drive across a suspension bridge, listen to music played on a Steinway piano, or send a child to kindergarten, their unique traditions and customs surround us. German Americans have influenced our Nation in myriad ways with their industry, culture, and engagement in public life.

Germany and its people have also been active participants in our Nation's history. This year, we celebrate the 60th anniversary of the Federal Republic of Germany, and the 20th anniversary of the fall of the Berlin Wall. These milestones reinforce the German people's dedication to democratic ideals, and we honor the bonds that tie our two nations together.

America is a stronger Nation because of those families who have established longstanding roots in our country, as well as by those who have recently emigrated from abroad. German immigrants, inhabiting every major city, have given much of themselves throughout our history, selflessly expanding the reach of the American Dream. On this day, we celebrate and honor the past, present, and future contributions of German Americans to the rich and textured story of America.

NOW, THEREFORE, I, BARACK OBAMA, President of the United States of America, by virtue of the authority vested in me by the Constitution and the laws of the United States, do hereby proclaim October 6, 2009, as German-American Day. I encourage all Americans to learn more about the history of German Americans and to commemorate the many contributions they have made to our Nation.

IN WITNESS WHEREOF, I have hereunto set my hand this sixth day of October, in the year of our Lord two thousand nine, and of the Independence of the United States of America the two hundred and thirty-fourth.

[FR Doc. E9-24675

Filed 10-9-09; 8:45 am]

Billing code 3195-W9-P